DEPARTMENT OF DEFENSE

Department of the Air Force

Notice of Intent To Grant an Exclusive Patent License

Pursuant to the provisions of Part 404 of Title 37, Code of Federal Regulations, which implements Public Law 96-517, as amended, the Department of the Air Force announces its intention to grant Lumera Corporation, a corporation of Washington State, having a place of business at 19910 North Creek Parkway, Bothell, Washington 98011-3008, an exclusive license in U.S. Patent Number 5,887,116, entitled, “Integrated Circuit Compatible Electro-Optic Device Using Conductive Polymer Cladding Layers,” issued on March 23, 1999, and U.S. Patent Number 5,892,859, entitled “Integrated Circuit Compatible Electro-Optic Controlling Device for High Data Rate Optical Signals,” issued April 6, 1999.

A license for these patents will be granted unless a written objection is received within 60 days from the date of publication of this Notice. Information concerning this Notice may be obtained from Mr. William H. Anderson, Associate General Counsel (Acquisition), SAF/GCQ, 1500 Wilson Blvd., Suite 304, Arlington, VA 22209-2310. Mr. Anderson can be reached at 703-588-5090 or by fax at 703-588-8037.

Janet A. Long,
Air Force Federal Register Liaison Officer.

[FR Doc. 01-13154 Filed 5-23-01; 8:45 am]

BILLING CODE 5001-05-P